DEPARTMENT OF HOMELAND SECURITY

Coast Guard

33 CFR Part 110

[Docket No. USCG-2013-0841]

RIN 1625-AA01

Anchorage Regulations: Anchorage Grounds, Los Angeles and Long Beach Harbors, California

AGENCY: Coast Guard, DHS.

ACTION: Notice of proposed rulemaking.

SUMMARY: The Coast Guard proposes to disestablish Commercial Anchorage “A” and to revise the permit and notification requirements for the anchorage grounds of Los Angeles and Long Beach Harbors, California. Commercial Anchorage “A” has become the location of a Submerged Material Storage Site and is no longer usable. Revised permit and notification requirements will affect the six commercial anchorages within the breakwater of the Ports of Los Angeles and Long Beach that can accommodate vessels with lengths exceeding 800 feet overall and drafts greater than 40 feet. The proposed revision will require vessels using these deep draft anchorages for more than 48 hours to obtain an extended anchorage permit from the Captain of the Port (COTP) Los Angeles-Long Beach. This action will assist the COTP and the Pilots for the Ports of Los Angeles and Long Beach to reduce congestion in the deep draft anchorage grounds within the harbor breakwater.

DATES: Comments and related material must be received by the Coast Guard on or before March 27, 2014.

ADDRESSES: You may submit comments identified by docket number USCG-2013-0841 using any one of the following methods:

(1) Federal eRulemaking Portal: http://www.regulations.gov.

(2) Fax: (202) 493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is (202) 366-9329.

See the “Public Participation and Request for Comments” portion of the SUPPLEMENTARY INFORMATION section below for further instructions on submitting comments. To avoid duplication, please use only one of these three methods.

FOR FURTHER INFORMATION CONTACT: If you have questions on this proposed rule, call or email Lieutenant Junior Grade Blake Morris, Waterways Management Division, U.S. Coast Guard District 11, telephone (510) 437-3801, email Blake.J.Morris@uscg.mil. If you have questions on viewing or submitting material to the docket, call Barbara Hairston, Program Manager, Docket Operations, telephone (202) 366-9826.

SUPPLEMENTARY INFORMATION:

Table of Acronyms

COTP Captain of the Port

DHS Department of Homeland Security

FR Federal Register

NPRM Notice of Proposed Rulemaking

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number USCG-2013-0841 in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number USCG-2013-0841 in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one, using one of the methods specified under ADDRESSES. Please explain why you believe a public meeting would be beneficial. If we determine that one would aid this rulemaking, we will hold one at a time and place announced by a later notice in the Federal Register.

B. Regulatory History and Information

33 CFR 110.214(a)(2) allows vessels to remain anchored for up to 10 consecutive days inside of the Los Angeles and Long Beach harbors before obtaining an extended anchorage permit from the COTP. It does not offer any special consideration for the six anchorages that can accommodate vessels with lengths exceeding 800 feet overall and drafts greater than 40 feet.

Due to the increasing size of commercial vessels and the growth in shipping traffic over the years, the anchorage grounds inside the breakwater of the Los Angeles and Long Beach harbors are becoming increasingly crowded. Vessels with lengths exceeding 800 feet overall and drafts greater than 40 feet are often compelled to wait outside of the breakwater while other vessels are moved out of deep draft anchorages to accommodate them.

Pilots for the Ports of Los Angeles and Long Beach have recommended that the Coast Guard consider reducing the number of days a vessel may remain anchored in the six deep draft anchorages of Los Angeles and Long Beach harbors, without approval of the COTP. This will aid them in reducing congestion in the deep draft anchorages more effectively.

33 CFR 110.214(b)(1) establishes Commercial Anchorage “A” within Los Angeles Harbor. Commercial Anchorage “A” is a circular area with a radius of 400 yards, centered in position 33 °43'19.2” N, 118 °14'18.5” W. Since its establishment, Commercial Anchorage “A” has become a Submerged Material Storage Site. It is now encircled by a submerged dike and is no longer usable.

C. Basis and Purpose

The legal basis for this proposed rule is: 33 U.S.C. 471, 1221 through 1236, 2030, 2035, 2071; 33 CFR 1.05-1; and Department of Homeland Security Delegation No. 0170.1, which collectively authorize the Coast Guard to define anchorage grounds.

This proposed rule has been recommended by Pilots for the Ports of Los Angeles and Long Beach and has three purposes. The first purpose is to disestablish Commercial Anchorage “A”, as it is no longer usable. The second purpose is to identify commercial anchorages B-7, B-9, B-11, D-5, D-6 and D-7 as anchorages that can accommodate vessels with lengths exceeding 800 feet overall and drafts greater than 40 feet within the Ports of Los Angeles and Long Beach. The final purpose of this proposed rule is to revise the permit and notification requirements for the six anchorages above, by requiring vessels anchored in these anchorages for more than 48 consecutive hours, to obtain an extended anchorage permit from the COTP. This will reduce congestion in the deep draft anchorages within the breakwater of both ports, and reduce the need for deep draft vessels to wait outside the breakwater as other vessels are moved to accommodate them.

D. Discussion of Proposed Rule

The Coast Guard is proposing to disestablish Commercial Anchorage “A” in the regulations for the anchorage grounds of Los Angeles and Long Beach Harbors, California in 33 CFR 110.214(b)(1). Commercial Anchorage “A” is a circular area with a radius of 400 yards, centered in position 33°43′19.2″ N, 118°14′18.5″ W, approximately 600 yards to the east of Pier 400. Since its establishment, Commercial Anchorage “A” has become a Submerged Material Storage Site. It is now encircled by a submerged dike and can no longer be used as an anchorage.

The Coast Guard is proposing to revise the permit and notification requirements in the regulations for the anchorage grounds of Los Angeles and Long Beach Harbors, California in 33 CFR 110.214(a)(2). Under the proposed rule, no vessel may anchor in deep draft anchorages B-7, B-9, B-11, D-5, D-6 or D-7 within Los Angeles or Long Beach harbors for more than 48 consecutive hours unless an extended anchorage permit is obtained from the COTP. These anchorages are the only locations within the breakwater of Los Angeles and Long Beach harbors where vessels with lengths exceeding 800 feet overall and drafts greater than 40 feet can anchor.

The purpose of the 48 hour time requirement is to reduce vessel congestion in deep draft anchorages B-7, B-9, B-11, D-5, D-6 and D-7. Vessels within these anchorages will be required to justify remaining there beyond 48 hours to the COTP, or be prepared to move based on the needs of other vessels and the judgment of the Pilots for the Ports of Los Angeles and Long Beach. Limiting congestion in these anchorages will reduce the need for deep draft vessels to wait outside of the breakwater while other vessels are moved from the inside deep draft anchorages. As shipping volume and the size of vessels making calls to the Ports of Los Angeles and Long Beach continue to grow, maintaining anchorage space for deep draft vessels within the shelter of the breakwater is becoming increasingly important.

The proposed rule maintains the requirement for all vessels that anchor anywhere else within Los Angeles or Long Beach harbors to obtain an extended anchorage permit from the COTP if they wish to remain anchored for more than 10 consecutive days. In determining whether an extended anchorage permit will be granted (for vessels in any anchorage), consideration will be given, but not necessarily limited to: the current and anticipated demands for anchorage space within the harbor, the requested duration, the condition of the vessel, and the reason for the request.

E. Regulatory Analyses

We developed this proposed rule after considering numerous statutes and executive orders related to rulemaking. Below we summarize our analyses based on a number of these statutes or executive orders.

1. Regulatory Planning and Review

This proposed rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

We expect minimal additional cost impacts to the maritime industry, because this rule does not impose fees or more specialized requirements to utilize these anchorage grounds. The effect of this rule would not be significant, as it removes an obsolete anchorage ground that is no longer used and revises the permit and notification requirements for six of the deep draft anchorage grounds in Los Angeles and Long Beach Harbors, California. The revised permit and notification requirements do not restrict vessels from utilizing these deep draft anchorages. They will simply require vessels in these anchorages to obtain permission from the COTP to remain longer than 48 hours. While we recognize that the proposed rule will shorten the amount of time that a vessel may remain in the deep draft anchorages for B-7, B-9, B-11, D-5, D-6 and D-7 from 10 days to 48 hours before being required to obtain an extended anchorage permit from the COTP and may also increase the number of times that a vessel operator may be required to obtain an extended anchorage permit, we anticipate this 48-hour notice requirement will not have a have significant impact on vessel owners or operators. We further anticipate the 48 hour requirement will provide the pilots and COTP with more accurate and more up-to-date information on vessel movements and will help reduce the need to move vessels out of deep draft anchorages on short notice. This will also assist in minimizing the number of deep draft vessels waiting outside of the breakwater while other vessels are moved from these anchorages to accommodate them. The COTP and pilots for Los Angeles and Long Beach retain their authority to move any vessel inside the breakwater when necessary.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule will not have a significant economic impact on a substantial number of small entities.

This proposed rule would affect the following entities, some of which might be small entities: the owners or operators of commercial vessels intending to anchor in the affected areas. The impact to these entities is not expected to be significant because the only anticipated impact on vessel owners or operators will be the requirement to obtain an extended anchorage permit if they wish to remain in the deep draft anchorages for more than 48 hours. We expect this 48 hour notice requirement will help toward reducing the need to move vessels out of these deep draft anchorages by providing better awareness of vessel schedules and movements to pilots and the COTP. The proposed rule will reduce congestion, enhance the effectiveness of anchorage management, and increase the availability of deep draft anchorages. It will not hamper the ability of commercial vessels to anchor inside of the Los Angeles and Long Beach harbor breakwater. Disestablishing Commercial Anchorage “A” will have no affect on these entities because the anchorage area is no longer usable and has not been for some time.

If you think that your business, organization, or governmental jurisdiction qualifies as a small entity and that this rule would have a significant economic impact on it, please submit a comment (see ADDRESSES) explaining why you think it qualifies and how and to what degree this rule would economically affect it.

3. Assistance for Small Entities

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT, above. The Coast Guard will not retaliate against small entities that question or complain about this proposed rule or any policy or action of the Coast Guard.

4. Collection of Information

This proposed rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this proposed rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

8. Taking of Private Property

This proposed rule would not cause a taking of private property or otherwise have taking implications under Executive Order 12630, Governmental Actions and Interference with Constitutionally Protected Property Rights.

9. Civil Justice Reform

This proposed rule meets applicable standards in sections 3(a) and 3(b)(2) of Executive Order 12988, Civil Justice Reform, to minimize litigation, eliminate ambiguity, and reduce burden.

10. Protection of Children From Environmental Health Risks

We have analyzed this proposed rule under Executive Order 13045, Protection of Children from Environmental Health Risks and Safety Risks. This rule is not an economically significant rule and would not create an environmental risk to health or risk to safety that might disproportionately affect children.

11. Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This proposed rule is not a “significant energy action” under Executive Order 13211, Actions Concerning Regulations That Significantly Affect Energy Supply, Distribution, or Use.

13. Technical Standards

This proposed rule does not use technical standards. Therefore, we did not consider the use of voluntary consensus standards.

14. Environment

We have analyzed this proposed rule under Department of Homeland Security Management Directive 023-01 and Commandant Instruction M16475.lD, which guide the Coast Guard in complying with the National Environmental Policy Act of 1969 (NEPA)(42 U.S.C. 4321-4370f), and have made a preliminary determination that this action is one of a category of actions that do not individually or cumulatively have a significant effect on the human environment. This proposed rule involves disestablishing one unusable anchorage ground and revising the permit and notification requirements for six deep draft anchorage grounds at Los Angeles and Long Beach Harbors, California. The revised requirements will assist the COTP and the pilot stations for the Ports of Los Angeles and Long Beach in managing anchorages inside the harbor breakwater. This rule is categorically excluded from further review under paragraph 34(f) of Figure 2-1 of the Commandant Instruction. A preliminary environmental analysis checklist supporting this determination and a Categorical Exclusion Determination are available in the docket where indicated under ADDRESSES. We seek any comments or information that may lead to the discovery of a significant environmental impact from this proposed rule.

List of Subjects in 33 CFR Part 110

Anchorage grounds.

For the reasons discussed in the preamble, the Coast Guard proposes to amend 33 CFR part 110 as follows:

PART 110—ANCHORAGE REGULATIONS

1. The authority citation for part 110 continues to read as follows:

Authority: 33 U.S.C. 471, 1221 through 1236, 2030, 2035, 2071; 33 CFR 1.05-1; Department of Homeland Security Delegation No. 0170.1.

2. In § 110.214, remove and reserve paragraph (b)(1) and revise paragraph (a)(2)(i) to read as follows:

§ 110.214 Los Angeles and Long Beach Harbors, California.

(a) * * *

(2) * * *

(i) No vessel may anchor in deep draft anchorages B-7, B-9, B-11, D-5, D-6 or D-7 within Los Angeles or Long Beach harbors for more than 48 consecutive hours unless an extended anchorage permit is obtained from the Captain of the Port. No vessel may anchor anywhere else within Los Angeles or Long Beach harbors for more than 10 consecutive days unless an extended anchorage permit is obtained from the Captain of the Port. In determining whether an extended anchorage permit will be granted, consideration will be given, but not necessarily limited to: the current and anticipated demands for anchorage space within the harbor, the requested duration, the condition of the vessel, and the reason for the request.

* * * * *

Dated: December 24, 2013.
K. L. Schultz,
Rear Admiral, U.S. Coast Guard, Commander, Eleventh Coast Guard District.

[FR Doc. 2014-03469 Filed 2-24-14; 8:45 am]

BILLING CODE 9110-04-P